DEPARTMENT OF STATE

[Public Notice 3306]

Bureau of Oceans and International Environmental and Scientific Affairs; Certifications Pursuant to Section 609 of Public Law 101-162

April 27, 2000.

SUMMARY: On April 25, 2000, the Department of State certified, pursuant to Section 609 of Public Law 101-162 (“Section 609”), that 16 nations have adopted programs to reduce the incidental capture of sea turtles in their shrimp fisheries comparable to the program in effect in the United States. The Department also certified that the fishing environments in 25 other countries do not pose a threat of the incidental taking of sea turtles protected under Section 609. Shrimp imports from any nation not certified were prohibited effective May 1, 2000 pursuant to Section 609.

EFFECTIVE DATE: May 3, 2000.

FOR FURTHER INFORMATION CONTACT: David Hogan, Office of Marine Conservation, Bureau of Oceans and International Environmental and Scientific Affairs, Department of State, Washington, DC 20520-7818; telephone: (202) 647-2335.

SUPPLEMENTARY INFORMATION: Section 609 of Public Law 101-162 prohibits imports of certain categories of shrimp unless the President certifies to the Congress not later than May 1 of each year either: (1) that the harvesting nation has adopted a program governing the incidental capture of sea turtles in its commercial shrimp fishery comparable to the program in effect in the United States and has an incidental take rate comparable to that of the United States; or (2) that the fishing environment in the harvesting nation does not pose a threat of the incidental taking of sea turtles. The President has delegated the authority to make this certification to the Department of State. Revised State Department guidelines for making the required certifications were published in the Federal Register on July 2, 1999 (Vol. 64, No. 130, Public Notice 3086).

On April 25, 2000, the Department certified 16 nations on the basis that their sea turtle protection program is comparable to that of the United States: Belize, Colombia, Costa Rica, Ecuador, El Salvador, Guatemala, Guyana, Indonesia, Mexico, Nicaragua, Nigeria, Panama, Suriname, Thailand, Trinidad and Tobago, and Venezuela. Honduras, certified on these grounds in 1998, did not retain their certification. Honduras failed to demonstrate that its regulations requiring the use of sea turtle excluder devices (TEDs) were being adequately enforced. The Department expects that Honduras will take steps necessary to regain certification in 2000.

The Department also certified 25 shrimp harvesting nations as having fishing environments that do not pose a danger to sea turtles. Sixteen nations have shrimping grounds only in cold waters where the risk of taking sea turtles is negligible. They are: Argentina, Belgium, Canada, Chile, Denmark, Finland, Germany, Iceland, Ireland, the Netherlands, New Zealand, Norway, Russia, Sweden, the United Kingdom, and Uruguay. Nine nations only harvest shrimp using small boats with crews of less than five that use manual rather than mechanical means to retrieve nets, or catch shrimp in using other methods that do not threaten sea turtles. Use of such small-scale technology does not adversely affect sea turtles. The nine nations are: the Bahamas, China, the Dominican Republic, Fiji, Haiti, Jamaica, Oman, Peru and Sri Lanka.

Any shipment of shrimp harvested in Honduras with a date of export prior to May 1, 2000 will be allowed entry into the United States regardless of date of importation into the United States. That is, shipments of shrimp harvested in this country in transit prior to the effective date of the ban are not barred from entry.

The Department of State communicated the certifications under section 609 to the Office of Trade Operations of the United States Customs Service in a letter transmitted on April 27, 2000.

Dated: April 27, 2000.
R. Tucker Scully,
Deputy Assistant Secretary for Oceans, Fisheries and Space, U.S. Department of State.

[FR Doc. 00-11025 Filed 5-2-00; 8:45 am]

BILLING CODE 4710-14-P